DEPARTMENT OF AGRICULTURE

Commodity Credit Corporation

Notice of Request for Revision of a Currently Approved Information Collection

AGENCY: Commodity Credit Corporation, USDA.

ACTION: Notice and request for comments.

SUMMARY: In accordance with the Paperwork Reduction Act of 1995, this notice announces the Commodity Credit Corporation's (CCC) intention to request a revision for a currently approved information collection in support of the foreign donation of agricultural commodities under the section 416(b), Food for Progress, and McGovern-Dole International Food for Education and Child Nutrition programs.

DATES: Comments on this notice must be received by September 7, 2010.

Additional Information: Contact Ronald Croushorn, Director, Food Assistance Division, Foreign Agricultural Service, U.S. Department of Agriculture, Stop 1034, Washington, DC 20250-1034; or by telephone at (202) 720-3038; or by e-mail at ron.croushorn@usda.gov.

SUPPLEMENTARY INFORMATION: Title: Foreign Donation Programs (Section 416(b)), Food for Progress, and McGovern-Dole International Food for Education and Child Nutrition programs.

OMB Number: 0551-0035.

Expiration Date of Approval: November 30, 2010.

Type of Request: Revision of a currently approved information collection.

Abstract: Under the section 416(b), Food for Progress, and McGovern-Dole International Food for Education and Child Nutrition programs (the “Foreign Donation Programs”), information will be gathered from applicants desiring to receive grants under the programs to determine the viability of requests for resources to implement activities in foreign countries. Program participants that receive grants must submit compliance reports until commodities or local currencies generated from the sale thereof are utilized. Participants that use the services of freight forwarders must submit certifications from the freight forwarders regarding their activities and affiliations. Documents are used to develop effective grant agreements and assure statutory requirements and objectives are met.

Estimate of Burden: The public reporting burden for each respondent resulting from information collected under the Foreign Donation Programs varies in direct relation to the number and complexity of the agreements entered into by such respondent. The estimated average reporting burden for the Foreign Donation Programs is 11 hours per response.

Respondents: U.S. private voluntary organizations, U.S. cooperatives, foreign governments, freight forwarders, ship owners and brokers, and survey companies.

Estimated Number of Respondents: 241 per annum.

Estimated Number of Responses per Respondent: 19 per annum.

Estimated Total Annual Burden of Respondents: 50,369 hours.

Copies of this information collection can be obtained from Tamoria Thompson-Hall, the Agency Information Collection Coordinator, by telephone at (202) 690-1690; or by e-mail at Tamoria.Thompson@fas.usda.gov.

Request for comments: Send comments regarding (a) whether the proposed collection of information is necessary for the proper performance of the functions of the agency, including whether the information will have practical utility; (b) the accuracy of the agency's estimate of the burden of the proposed collection of information; (c) ways to enhance the quality, utility, and clarity of the information to be collected; and (d) ways to minimize the burden of the collection of information on those who are to respond, including through the use of automated, electronic, mechanical, or other technological collection techniques or other forms of information technology.

Comments may be sent to Ronald Croushorn, Director, Food Assistance Division, Foreign Agricultural Service, United States Department of Agriculture, Stop 1034, Washington, DC 20250-1034; or by e-mail at ron.croushorn@usda.gov; or to the Desk Officer for Agriculture, Office of Information and Regulatory Affairs, Office of Management and Budget (OMB), Washington, DC 20503. Persons with disabilities who require an alternative means for communication of information (e.g., Braille, large print, audiotape, etc.) should contact USDA's Target Center at (202) 720-2600 (voice and TDD).

All responses to this notice will be summarized and included in the request for OMB approval. All comments will also become a matter of public record.

Dated: June 29, 2010.
Janet Nuzum,
Administrator, Foreign Agricultural Service.

[FR Doc. 2010-16772 Filed 7-8-10; 8:45 am]

BILLING CODE 3410-10-P